DEPARTMENT OF LABOR

Employment and Training Administration

[TA-W-75,131]

JLG Industries, Inc., Access Division, a Subsidiary of Oshkosh Corporation, Hagerstown, MD; Notice of Termination of Reconsideration Investigation

On April 14, 2011, the Department of Labor (Department) issued an Affirmative Determination Regarding Application for Reconsideration for workers and former workers of JLG Industries, Inc., Access Division, a subsidiary of Oshkosh Corporation, Hagerstown, Maryland. The Department's Notice of affirmative determination was published in the Federal Register on April 25, 2011 (76 FR 22922).

On July 11, 2011, the Department issued an amended certification applicable to workers and former workers of JLG Industries, Inc., a subsidiary of Oshkosh Corporation, Access Segment, McConnellsburg, Pennsylvania (TA-W-75,067) and Access Division, Hagerstown, Maryland (TA-W-75,067A). The Department's Notice of amended certification will soon be published in the Federal Register.

Because the petitioning group of workers is covered by a certification (TA-W-75,076A) which expires on March 9, 2013, further investigation in this case would serve no purpose, and the reconsideration investigation has been terminated.

Conclusion

After careful review of the administrative record and the findings of the reconsideration investigation, I am terminating the investigation of the petition for worker adjustment assistance filed on behalf of workers and former workers of JLG Industries, Inc., Access Division, a subsidiary of Oshkosh Corporation, Hagerstown, Maryland.

Signed in Washington, DC, on this 11th day of July 2011.
Del Min Amy Chen,
Certifying Officer, Office of Trade Adjustment Assistance.

[FR Doc. 2011-18240 Filed 7-19-11; 8:45 am]

BILLING CODE 4510-FN-P